DEPARTMENT OF TRANSPORTATION

Federal Aviation Administration

14 CFR Part 71

[Docket No. FAA-2006-25822; Airspace Docket No. 06-AWP-16]

RIN 2120-AA66

Revision of Class D Airspace; Mesa, AZ

AGENCY: Federal Aviation Administration (FAA), DOT.

ACTION: Final rule.

SUMMARY: This action revises Class D airspace at Mesa, AZ, Falcon Field Airport. The airspace is modified to accommodate general aviation pilots transitioning the Phoenix area as described in the forthcoming proposed Phoenix Class B airspace redesign. Revising the Mesa Falcon Field airspace provides a wider corridor for general aviation pilots to transition north and south beneath the proposed Phoenix Class B airspace and remain west of the Mesa Falcon Field Airport Class D airspace.

DATES: Effective Date: 0901 UTC, March 15, 2007. The Director of the Federal Register approves this incorporation by reference action under title 1, Code of Federal Regulations, part 51, subject to the annual revision of FAA Order 7400.9 and publication of conforming amendments.

FOR FURTHER INFORMATION CONTACT: Francie Hope, System Support Specialist, Western Service Area, AWP-520.3, Federal Aviation Administration, 15000 Aviation Boulevard, Lawndale, California 90261, telephone (310) 725-6502.

SUPPLEMENTARY INFORMATION:

History

On October 25, 2006, the FAA published in the Federal Register (71 FR 62397) a notice of proposed rulemaking to revise the Class D airspace at Mesa, AZ. Interested parties were invited to participate in this ruelmaking effort by submitting written comments on this proposal to the FAA. No comments were received. This revision is the same as that proposed in the notice. Class D airspace areas are published in Paragraph 5000 of FAA Order 7400.9P dated September 1, 2006, and effective September 15, 2006, which is incorporated by reference in 14 CFR 71.1. The Class D airspace designation listed in this document will be published subsequently in the Order.

The Rule

This action amends Title 14 Code of Federal Regulations (14 CFR) part 71 by revising the Class D airspace area for Mesa, AZ, Falcon Field Airport. The airspace is modified to accommodate general aviation pilots transitioning the Phoenix area as described in the forthcoming proposed Phoenix Class B airspace redesign. Revising the Mesa Falcon Field airspace provides a wider corridor for general aviation pilots to transition north and south beneath the proposed Phoenix Class B airspace and remain west of the Mesa Falcon Field Airport Class D airspace. The FAA has determined that this regulation only involves an established body of technical regulations for which frequent and routine amendments are necessary to keep them operationally current. Therefore, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 95765, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 5000 Class D Airspace.

* * * * *

AWP AZ D Mesa, AZ [Revised]

Mesa, Falcon Field, AZ

(Lat. 33°27′39″ N., long. 111°43′42″ W.)

That airspace extending upward from the surface to but not including 3,400 feet MSL beginning at lat. 33°24′38″ N., long. 111°47′23″ W.; then north to lat. 33°30′40″ N., long. 111°47′23″ W.; then northeast, southeast, and southwest along a 4.3-mile radius of Falcon Field Airport, to lat. 33°24′38″ N., long. 111°47′23″ W. This Class D airspace area is effective during the specific dates and times established in advance by a Notice to Airmen. The effective date and time will thereafter be continuously published in the Airport/Facility Directory.

* * * * *

Issued in Los Angeles, California, on December 20, 2006.
Leonard A. Mobley,
Acting Director, Western Terminal Operations.

[FR Doc. 07-8 Filed 1-8-07; 8:45 am]

BILLING CODE 4910-13-M